FEDERAL MARITIME COMMISSION

Sunshine Act Meetings

TIME AND DATE: September 19, 2018; 10:00 a.m.

PLACE: 800 N. Capitol Street NW, First Floor Hearing Room, Washington, DC.

STATUS: This meeting will be open to the public.

MATTERS TO BE CONSIDERED:

Open Session

1. Fact Finding No. 28—Interim—Briefing by Commissioner Rebecca F. Dye

2. Regulatory Reform Task Force Update

3. Demonstration of www.fmc.gov Redesign

CONTACT PERSON FOR MORE INFORMATION: Rachel Dickon, Secretary, (202) 523-5725.

Rachel Dickon,
Secretary.

[FR Doc. 2018-20151 Filed 9-12-18; 4:15 pm]

BILLING CODE 6731-AA-P